DEPARTMENT OF LABOR

Employment and Training Administration

Proposed Collection: Comment Request

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) (44 U.S.C. 3506 (c)2(A)). This program helps to ensure that requested data can be provided in the desired format, reporting burden (time and financial resources) is minimized, collection instruments are clearly understood, and the impact of collection requirements on respondents can be properly assessed. Currently, the Employment and Training Administration is soliciting comments concerning the proposed extension of the Interstate Arrangement For Combining Employment and Wages, ETA 586.

A copy of the proposed information collection request (ICR) can be obtained by contacting the office listed below in the addressee section of this notice.

DATES: Written comments must be submitted to the office listed in the addressee section below on or before September 24, 2001.

ADDRESSES: Mary E. Montgomery, Office of Workforce Security, Employment and Training Administration, U.S. Department of Labor, Room S-4516, 200 Constitution Avenue, NW., Washington, DC 20210, telephone number (202) 693-3217 (this is not a toll-free number).

SUPPLEMENTARY INFORMATION:

I. Background

Section 3304(a)(9)(B), of the Internal Revenue Code (IRC) of 1986, requires States to participate in an arrangement for combining employment and wages covered under the different State laws for the purpose of determining unemployed workers' entitlement to unemployment compensation. The Interstate Arrangement for Combining Employment and Wages (CWC), promulgated at 20 CFR part 616, requires the prompt transfer of all available employment and wages between States upon request. The Benefit Payment Promptness Standard, 20 CFR part 640, requires the prompt payment of unemployment compensation including benefits paid under the CWC arrangement. The ETA 586 report provides the ETA/Office of Workforce Security with information necessary to measure the scope and effect of the CWC program and monitor the performance of each State in responding to wage transfer requests and the payment of benefits.

II. Review Focus

The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

This information is necessary in order for ETA to analyze program performance, know when program performance action plans are needed and to target technical assistance resources. Without this report, it would be impossible for the ETA to identify claims and benefit activity under the CWC program and carry out the Secretary's responsibility for oversight.

Type of Review: Extension without change.

Agency: Employment and Training Administration.

Title: Interstate Arrangement for Combining Employment and Wages.

OMB Number: 1205-0029.

Agency Number: ETA 586.

Recordkeeping: 3 years.

Affected Public: State Government.

Cite/Reference/Form: ETA Handbook No. 401, ETA 586.

Total Respondents: 53.

Frequency: Quarterly.

Total Responses: 212.

Average Time per Response: 4 hours.

Estimated Total Burden Hours: 848.

Total Burden Cost (capital/startup): N/A.

Total Burden Cost:

Form | Respondents | Per year | Hours per response | Burden hours
ETA 586 | 53 | 212 | 4 hours | 848

Average number of responses per respondent: 4.

Average burden hour per response: 4 hours.

With an average of $20 per hour for State salaries and 848 hours per year, we estimate the annual burden cost to be $16,960.

Comments submitted in response to this comment request will be summarized and/or included in the request for Office of Management and Budget approval of the information collection request; they will also become a matter of public record.

Dated: July 13, 2001.
Cheryl Atkinson,
Director, Office of Income Support.

[FR Doc. 01-18578 Filed 7-24-01; 8:45 am]

BILLING CODE 4510-30-P